INTERNATIONAL TRADE COMMISSION

[Inv. No. 337-TA-441]

In the Matter of Certain Field Programmable Gate Arrays and Products Containing Same; Notice of a Commission Determination Not To Review an Initial Determination Amending the Notice of Investigation To Add a Patent Claim to the Scope of the Investigation

AGENCY: U.S. International Trade Commission.

ACTION: Notice.

SUMMARY: Notice is hereby given that the U.S. International Trade Commission has determined not to review the presiding administrative law judge's (“ALJ's”) initial determination (“ID”) granting a motion to amend the notice of investigation to add a patent claim to the scope of the investigation.

FOR FURTHER INFORMATION: Tim Yaworski, Esq., Office of the General Counsel, U.S. International Trade Commission, telephone (202) 205-3096.

SUPPLEMENTARY INFORMATION: The Commission instituted this investigation on December 21, 2000, based on a complaint by Xilinx, Inc. of San Jose, California, alleging that respondent Altera Corporation, also of San Jose, California, violated section 337 of the Tariff Act of 1930 by importing and selling certain field programmable gate arrays and products containing same by reason of infringement of, inter alia, claims 1 and 3 of U.S. Letters Patent 5,432,719 (“the '719 patent”). 65 FR 80454.

On February 9, 2001, the Commission investigative attorney (“IA”) filed an unopposed motion to amend the notice of investigation to add claim 2 of the '719 patent to the scope of the investigation.

On July 11, 2001, the presiding ALJ issued an ID (Order No. 6) granting the IA's motion. No petitions for review of the ID were filed.

This action is taken under the authority of section 337 of the Tariff Act of 1930, as amended, 19 U.S.C. 1337, and Commission rule 210.42, 19 CFR 210.42. Copies of the subject ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TTD terminal on 202-205-1810. General information concerning the Commission may also be obtained by accessing its Internet server (http://www/usitc.gov). The public record for this investigation may be viewed on the Commission's electronic docket (EDIS-ON-LINE) at http://dockets.usitc.gov/eol/public.

By order of the Commission.
Issued: July 27, 2001.
Donna R. Koehnke,
Secretary.

[FR Doc. 01-19192 Filed 7-31-01; 8:45 am]

BILLING CODE 7020-02-P